NUCLEAR REGULATORY COMMISSION

10 CFR Part 72

[NRC-2024-0215]

RIN 3150-AL24

List of Approved Spent Fuel Storage Casks: HI-STORM 100, Certificate of Compliance No. 1014, Renewed Amendment No. 19

AGENCY: Nuclear Regulatory Commission.

ACTION: Direct final rule; confirmation of effective date.

SUMMARY: The U.S. Nuclear Regulatory Commission (NRC) is confirming the effective date of May 27, 2025, for the direct final rule that was published in the Federal Register on March 13, 2025. This direct final rule amended the Holtec International HI-STORM 100 Cask System listing within the “List of approved spent fuel storage casks” to include Renewed Amendment No. 19 to Certificate of Compliance No. 1014. Renewed Amendment No. 19 revises the certificate of compliance to update the acceptance criteria and method of evaluation (MOE) for the HI-STORM 100 system tipover accident for equipment combinations involving multi-purpose canisters with Metamic-HT baskets. This involves applying a new stress-based criteria and completing new evaluations consistent with the new tipover acceptance criteria and MOE and involves some adjustments of the existing deflection criteria.

DATES: The effective date of May 27, 2025, for the direct final rule published March 13, 2025 (90 FR 11891), is confirmed.

ADDRESSES: Please refer to Docket ID NRC-2024-0215 when contacting the NRC about the availability of information for this action. You may obtain publicly available information related to this action by any of the following methods:

• Federal Rulemaking Website: Go to https://www.regulations.gov and search for Docket ID NRC-2024-0215. Address questions about NRC dockets to Helen Chang; telephone: 301-415-3228; email: Helen.Chang@nrc.gov. For technical questions, contact the individuals listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. The revision of Certificate of Compliance No. 1014, the associated changes to the technical specifications, and the final safety evaluation report are available in ADAMS under Accession No. ML25002A187.

• NRC's PDR: The PDR, where you may examine and order copies of publicly available documents, is open by appointment. To make an appointment to visit the PDR, please send an email to PDR.Resource@nrc.gov or call 1-800-397-4209 or 301-415-4737, between 8 a.m. and 4 p.m. eastern time, Monday through Friday, except Federal holidays.

FOR FURTHER INFORMATION CONTACT: Yen-Ju Chen, Office of Nuclear Material Safety and Safeguards, telephone: 301-415-1018; email: Yen-Ju.Chen@nrc.gov or Caylee Kenny, Office of Nuclear Material Safety and Safeguards, telephone: 301-415-7150; email: Caylee.Kenny@nrc.gov. Both are staff of the U.S. Nuclear Regulatory Commission, Washington, DC 20555-0001.

SUPPLEMENTARY INFORMATION: On March 13, 2025 (90 FR 11891), the NRC published a direct final rule amending its regulations in part 72 of title 10 of the Code of Federal Regulations to amend its spent fuel regulations by revising the Holtec International HI-STORM 100 Cask System listing within the “List of approved spent fuel storage casks” to include Renewed Amendment No. 19 to Certificate of Compliance No. 1014. In the direct final rule, the NRC stated that if no significant adverse comments were received, the direct final rule would become effective on May 27, 2025. The NRC did not receive any comments on the direct final rule. Therefore, this direct final rule will become effective as scheduled.

Dated: April 24, 2025.
For the Nuclear Regulatory Commission.
Ronald Raunikar,
Acting Chief, Regulatory Analysis and Rulemaking Support Branch, Division of Rulemaking, Environmental, and Financial Support, Office of Nuclear Material Safety and Safeguards.

[FR Doc. 2025-07360 Filed 4-29-25; 8:45 am]

BILLING CODE 7590-01-P